DEPARTMENT OF DEFENSE

GENERAL SERVICES ADMINISTRATION

NATIONAL AERONAUTICS AND SPACE ADMINISTRATION

[OMB Control No. 9000-0102; Docket No. 2019-0003; Sequence No. 21]

Submission for OMB Review; Prompt Payment

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a revision and renewal of a previously approved information collection requirement regarding prompt payment.

DATES: Submit comments on or before September 3, 2019.

ADDRESSES: Submit comments regarding this burden estimate or any other aspect of this collection of information, including suggestions for reducing this burden to:

Office of Information and Regulatory Affairs of OMB, Attention: Desk Officer for GSA, Room 10236, NEOB, Washington, DC 20503. Additionally submit a copy to GSA by any of the following methods:

• Federal eRulemaking Portal: This website provides the ability to type short comments directly into the comment field or attach a file for lengthier comments. Go to http://www.regulations.gov and follow the instructions on the site.

• Mail: General Services Administration, Regulatory Secretariat Division (MVCB), 1800 F Street NW, Washington, DC 20405. ATTN: Lois Mandell/IC 9000-0102, Prompt Payment.

Instructions: All items submitted must cite Information Collection 9000-0102, Prompt Payment. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Mr. Kevin Funk, Procurement Analyst, at telephone 202-357-5805, or via email at kevin.funk@gsa.gov.

SUPPLEMENTARY INFORMATION:

A. OMB control number, Title, and any Associated Form(s)

9000-0102, Prompt Payment.

B. Needs and Uses

Paragraph (c) of the clause at Federal Acquisition Regulation (FAR) 52.232-5, Payments Under Fixed-Price Construction Contracts, requires that contractors under fixed-price construction contracts certify, for every progress payment request, that payments to subcontractors/suppliers have been made from previous payments received under the contract and timely payments will be made from the proceeds of the payment covered by the certification, and that this payment request does not include any amount which the contractor intends to withhold from a subcontractor/supplier.

Paragraphs (e) and (g) of the clause at FAR 52.232-27, Prompt Payment for Construction Contracts, require contractors to notify the Government regarding any withheld amounts of a progress payment to a subcontractor, the specific cause for the withholding, and the remedial action to be taken by the subcontractor.

The information provided under these two clauses is used to determine the proper amount of payments to Federal contractors and understand when the contractor withholds amounts from subcontractors/suppliers after the Government has already paid the contractor the amounts withheld.

C. Annual Burden

Respondents: 13,847.

Total Annual Responses: 214,672.

Total Burden Hours: 70,842.

D. Public Comment

A 60-day notice was published in the Federal Register at 84 FR 21340, on May 14, 2019. No comments were received.

Obtaining Copies: Requesters may obtain a copy of the information collection documents from the General Services Administration, Regulatory Secretariat Division (MVCB), 1800 F Street NW, Washington, DC 20405, telephone 202-501-4755. Please cite OMB Control No. 9000-0102, Prompt Payment, in all correspondence.

Dated: July 29, 2019.
Janet Fry,
Director, Federal Acquisition Policy Division, Office of Governmentwide Acquisition Policy, Office of Acquisition Policy, Office of Governmentwide Policy.

[FR Doc. 2019-16500 Filed 8-1-19; 8:45 a.m.]

BILLING CODE 6820- EP -P